DEPARTMENT OF HEALTH AND HUMAN SERVICES

Office of the National Coordinator for Health Information Technology; American Health Information Community Meeting

ACTION: Meeting announcement.

SUMMARY: This notice announces the meeting date for the 20th meeting of the American Health Information Community in accordance with the Federal Advisory Committee Act (Pub. L. No. 92-463, 5 U.S.C., App.). The American Health Information Community will advise the Secretary and recommend specific actions to achieve a common interoperability framework for health information technology (IT).

DATES: Meeting Date: February 26, 2008, from 10:30 a.m. to 3 p.m. (Eastern time).

ADDRESSES: Rosen Centre Hotel, Salon 9 and 10, 9840 International Drive, Orlando, FL 32819. This meeting will be held in conjunction with the Healthcare Information and Management Systems Society (HIMSS) annual conference.

SUPPLEMENTARY INFORMATION: The meeting will include presentations by the Confidentiality, Privacy and Security Workgroup and the Personalized Healthcare Workgroup on Recommendations to the Community; an update on the Nationwide Health Information Network (NHIN); and an update on the AHIC Successor.

FOR FURTHER INFORMATION: Visit http://www.hhs.gov/healthit/ahic.html. A Web cast of the Community meeting will be available on the NIH Web site at: http://www.videocast.nih.gov/.

If you have special needs for the meeting, please contact (202) 690-7151.

Dated: January 29, 2008.
Judith Sparrow,
Director, American Health Information Community, Office of Programs and Coordination, Office of the National Coordinator for Health Information Technology.

[FR Doc. 08-516 Filed 2-5-08; 8:45 am]

BILLING CODE 4150-45-M